DEPARTMENT OF TRANSPORTATION

Federal Railroad Administration

Notice of Funding Opportunity for Rail Research and Development Center of Excellence; Correction

AGENCY: Federal Railroad Administration (FRA), Department of Transportation (DOT).

ACTION: Notice of funding opportunity (NOFO or notice); correction.

SUMMARY: FRA published a notice of funding opportunity for the Rail Research and Development Center of Excellence Program in the Federal Register on May 2, 2023. The notice contained an incorrect date for the application submission period.

FOR FURTHER INFORMATION CONTACT: For further information related to this notice and the Rail Research and Development Center of Excellence Program, please contact Tarek Omar, Office of Research, Development, and Technology, by email: tarek.omar@dot.gov or by telephone: (202) 493-6189.

SUPPLEMENTARY INFORMATION:

Correction

In the Federal Register, of May 2, 2023, on page 27560, in the second column, correct the DATES column to read:

DATES: Applications that are incomplete or received after 5:00 p.m. ET on July 3, 2023 will not be considered for funding.

Issued in Washington, DC.
Michael W. Lestingi,
Executive Director.

[FR Doc. 2023-10959 Filed 5-22-23; 8:45 am]

BILLING CODE 4910-06-P